FARM CREDIT ADMINISTRATION

Privacy Act of 1974; System of Records

AGENCY: Farm Credit Administration.

ACTION: Notice of a Modified System of Records.

SUMMARY: Pursuant to the provisions of the Privacy Act of 1974, notice is hereby given that the Farm Credit Administration (FCA or Agency) is amending an existing system of records, FCA-6—Freedom of Information and Privacy Act Requests—FCA.

DATES: You may send written comments on or before September 2, 2020. FCA filed an amended System Report with Congress and the Office of Management and Budget on June 8, 2020. This notice will become effective without further publication on September 14, 2020 unless modified by a subsequent notice to incorporate comments received from the public.

ADDRESSES: We offer a variety of methods for you to submit your comments. For accuracy and efficiency, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA Website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records.

The Freedom of Information Act and Privacy Act Requests—FCA system is used by FCA officials in administratively processing requests for records to ensure compliance with the Freedom of Information Act and Privacy Act. The Agency is updating the notice to add additional and clarifying details, to make administrative updates, and to make non-substantive changes to conform to the SORN template requirements prescribed in the Office of Management and Budget (OMB) Circular No. A-108. The substantive changes and modifications to the currently published version of FCA-6—Freedom of Information and Privacy Act Requests—FCA include:

1. Identifying the records in the system as unclassified.

2. Revising the System name.

3. Revising and clarifying the system's purpose.

4. Revising and clarifying the categories of records maintained in the system.

5. Revising the retention and disposal section to reflect updated guidance from the National Archives and Records Administration.

6. Revising the safeguards section to reflect updated cybersecurity guidance and practices.

Additionally, non-substantive changes have been made to the notice to align with the latest guidance from OMB.

The amended system of records is: FCA-6—Freedom of Information Act and Privacy Act Requests—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-6—Freedom of Information Act and Privacy Act Requests—FCA.

Security Classification:

Unclassified.

System Location:

Farm Credit Administration, 1501 Farm Credit Drive, McLean, VA 22102-5090.

System Manager:

Freedom of Information Act and Privacy Act Officer, Farm Credit Administration, 1501 Farm Credit Drive, McLean, VA 22102-5090.

Authority for Maintenance of the System:

5. U.S.C. 552, 552a; 12 U.S.C. 2243, 2252.

Purposes of the System:

We use information in this system of records in administratively processing requests for records to ensure compliance with the Freedom of Information Act and Privacy Act.

Categories of Individuals Covered by the System:

Persons that request records under the Freedom of Information Act or Privacy Act. Freedom of Information Act requests are subject to the Privacy Act only to the extent that they concern individuals; information pertaining to corporations and other business entities and organizations is not subject to the Privacy Act.

Categories of Records in the System:

This system contains (1) paper and electronic requests for records under the Freedom of Information Act or Privacy Act, including names, addresses and other contact information as provided by the requestor; and (2) copies of replies and responsive records.

Record Source Categories:

Persons making Freedom of Information Act and Privacy Act requests and FCA or FCSIC employees.

Routine Uses of Records Maintained in the System, Including Categories of Users and Purposes of Such Uses:

See the “General Statement of Routine Uses” (64 FR 8175). Disclosure to consumer reporting agencies:None.

Policies and Practices for Storage of Records:

Records are maintained in file folders and electronically in a computerized database.

Policies and Practices for Retrieval of Records:

Records are retrieved by name.

Policies and Procedures for Retention and Disposal of Records:

Records are retained in accordance with the National Archives and Records Administration's General Records Schedule requirements for Freedom of Information Act and Privacy Act request files, and with the FCA Comprehensive Records Schedule.

Administrative, Technical, and Physical Safeguards:

FCA implements multiple layers of security to ensure access to records is limited to those with a need-to-know in support of their official duties. Paper records are physically safeguarded in a secured environment using locked file rooms, file cabinets, or locked offices and other physical safeguards. Computerized records are safeguarded through use of user roles, passwords, firewalls, encryption, and other information technology security measures. Only personnel with a need-to-know in support of their duties have access to the records.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

None.

History:

Federal Register Vol. 64, No. 100/Tuesday, May 25, 1999 page 21875

Vol. 70, No. 183/Thursday, September 22, 2005, page 55621

Dated: July 28, 2020.
Dale Aultman,
Secretary, Farm Credit Administration Board.

[FR Doc. 2020-16697 Filed 7-31-20; 8:45 am]

BILLING CODE 6705-01-P